DEPARTMENT OF ENERGY

Federal Energy Regulatory Commission

[Docket No. RP02-248-000]

Kern River Gas Transmission Company; Notice of Proposed Changes in FERC Gas Tariff

May 3, 2002.

Take notice that on April 30, 2002, Kern River Gas Transmission Company (Kern River) tendered for filing as part of its FERC Gas Tariff, Second Revised Volume No. 1, the following tariff sheets, to be effective June 1, 2002:

Fifth Revised Sheet No. 71

Third Revised Sheet No. 96

Third Revised Sheet No. 98

Second Revised Sheet No. 107

Second Revised Sheet No. 108

First Revised Sheet No. 205

Original Sheet Nos. 206-213

Sheet Nos. 214-299 (Reserved)

Kern River states that the purpose of this filing is to establish an integrated tariff provision setting forth procedures for posting, bidding on, and awarding unsubscribed and expiring capacity, and for reserving capacity for future expansion projects.

Kern River states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11604 Filed 5-8-02; 8:45 am]

BILLING CODE 6717-01-P